ENVIRONMENTAL PROTECTION AGENCY

[EPA-HQ-OW-2004-0013; FRL-9990-95-OEI]

Information Collection Request Submitted to OMB for Review and Approval; Comment Request; EPA Strategic Plan Information on Source Water Protection (Renewal)

AGENCY: Environmental Protection Agency (EPA).

ACTION: Notice.

SUMMARY: The Environmental Protection Agency (EPA) has submitted an information collection request (ICR), EPA Strategic Plan Information on Source Water Protection (EPA ICR Number 1816.07, OMB Control Number 2040-0197) to the Office of Management and Budget (OMB) for review and approval in accordance with the Paperwork Reduction Act. This is a proposed renewal of the ICR, which is currently approved through March 31, 2019. Public comments were previously requested via the Federal Register on November 9, 2018 during a 60-day comment period. This notice allows for an additional 30 days for public comments. A fuller description of the ICR is given below, including its estimated burden and cost to the public. An agency may not conduct or sponsor and a person is not required to respond to a collection of information unless it displays a currently valid OMB control number.

DATES: Additional comments may be submitted on or before April 29, 2019.

ADDRESSES: Submit your comments, referencing Docket ID Number EPA-HQ-OW-2004-0013, to (1) EPA online using www.regulations.gov (our preferred method), by email to the OW Docket at OW-Docket@epa.gov, or by mail to: the OW Docket, EPA Docket Center, Environmental Protection Agency, Mail Code 28221T, 1200 Pennsylvania Ave. NW, Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Sherri Comerford, Drinking Water Protection Division—Prevention Branch, Office of Ground Water and Drinking Water, (MC 4606M), Environmental Protection Agency, 1200 Pennsylvania Ave. NW, Washington, DC 20460; telephone number: 202-564-4639; fax number: 202-564-3756; email address: Comerford.Sherri@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: The EPA is collecting data from the states on their progress toward substantial implementation of protection strategies for all community water systems (CWSs). The EPA and states use this voluntary collection of data to understand the progress toward the Agency's goal of increasing the percentage of CWS (and the populations they serve) where risk is minimized through source water protection. The EPA specifically tracks the percentage of all CWSs that are implementing source water protection and the percentage of the population which is served by those systems.

Form Numbers: None.

Respondents/affected entities: State environmental and health agencies.

Respondent's obligation to respond: Voluntary.

Estimated number of respondents: 51 (total).

Frequency of response: Quarterly.

Total estimated burden: 684 hours (per year). Burden is defined at 5 CFR 1320.03(b).

Total estimated cost: $29,874 (per year).

Changes in the Estimates: The EPA anticipates the annual totals for estimated burden to be 684 hours, an increase of 342 hours compared with the ICR currently approved by OMB. This is a two-fold-increase due to voluntary reporting that would increase in frequency from annually to quarterly compared to the ICR currently approved by OMB. States may use their existing methodology for routine tracking, which the EPA believes will result in efficiencies that would allow states to minimize hourly burden and cost.

Courtney Kerwin,
Director, Regulatory Support Division.

[FR Doc. 2019-05982 Filed 3-27-19; 8:45 am]

BILLING CODE 6560-50-P